DEPARTMENT OF AGRICULTURE

Natural Resources Conservation Service

[Docket No. NRCS-2020-0005]

Notice of Availability of the Mississippi Trustee Implementation Group Draft Restoration Plan II Environmental Assessment: Wetlands, Coastal, and Nearshore Habitats and Oysters

AGENCY: Natural Resources Conservation Service (NRCS), U.S. Department of Agriculture (USDA).

ACTION: Notice of availability; request for comments.

SUMMARY: In accordance with the Oil Pollution Act of 1990 (OPA), the National Environmental Policy Act (NEPA), the Deepwater Horizon Oil Spill Final Programmatic Damage Assessment and Restoration Plan and Final Programmatic Environmental Impact Statement (Final PDARP PEIS), Record of Decision, and Consent Decree, the Federal and State natural resource trustee agencies for the Mississippi Trustee Implementation Group (Mississippi TIG) have prepared a Draft Restoration Plan II Environmental Assessment: Wetlands, Coastal, and Nearshore Habitats and Oysters (Draft RP II EA). MS TIG identified two Restoration Types—Wetlands, Coastal, and Nearshore Habitats (WCNH) and Oysters—that it considered appropriate for the Draft RP II EA. The purpose of this notice is to inform the public of the availability of the Draft RP II EA and to request public comments on the document.

DATES: We will consider comments that we receive by May 22, 2020.

ADDRESSES: We invite you to submit comments on this notice. In your comments, include the volume, date, and page number of this issue of the Federal Register. Comments may be submitted by any of the following methods:

• The web: https://www.gulfspillrestoration.noaa.gov/restoration-areas/mississippi; or

• Mail: U.S. Fish and Wildlife Service, P.O. Box 29649, Atlanta, Georgia 30345. Please note that mailed comments must be postmarked on or before the comment deadline of May 22, 2020 to be considered.

MS TIG will host a public webinar on May 13, 2020, at 2:00 p.m. CDT. The public may register for the webinar at: https://attendee.gotowebinar.com/register/548768858601614861. Comments will be accepted during the public webinar.

After registering, participants will receive a confirmation email with instructions for joining the webinar.

FOR FURTHER INFORMATION CONTACT: Ron Howard, Senior Technical Advisor, Natural Resource Specialist, at ron.howard@ms.usda.gov; and Valerie Alley, NRDA Coordinator, at mississippiTIG@mdeq.ms.gov.

SUPPLEMENTARY INFORMATION:

Background

On April 20, 2010, the mobile offshore drilling unit Deepwater Horizon, which was being used to drill a well for BP Exploration and Production Inc. (BP), in the Macondo prospect (Mississippi Canyon 252-MC252), exploded, caught fire, and subsequently sank in the Gulf of Mexico, resulting in an unprecedented volume of oil and other discharges from the rig and from the wellhead on the seabed. The Deepwater Horizon oil spill is the largest maritime oil spill in U.S. history, discharging millions of barrels of oil over a period of 87 days. In addition, well over one million gallons of dispersants were applied to the waters of the spill area to disperse the spilled oil. An undetermined amount of natural gas was also released to the environment as a result of the spill.

The Deepwater Horizon State and Federal natural resource trustees (DWH Trustees) conducted the natural resource damage assessment (NRDA) for the Deepwater Horizon oil spill under the Oil Pollution Act 1990 (OPA; 33 U.S.C. 2701-2720) and the implementing NRDA regulations (15 CFR part 990). In accordance with OPA, Federal and State agencies act as trustees on behalf of the public to assess natural resource injuries and losses and to determine the actions required to compensate the public for those injuries and losses. OPA further instructs the designated trustees to develop and to implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior (DOI), as represented by the National Park Service (NPS), U.S. Fish and Wildlife Service (FWS), and Bureau of Land Management (BLM);

• National Oceanic and Atmospheric Administration (NOAA), on behalf of the U.S. Department of Commerce (DOC);

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• For the State of Texas, Texas Parks and Wildlife Department, Texas General Land Office, and Texas Commission on Environmental Quality.

Upon completion of NRDA, the DWH Trustees reached and finalized a settlement of their natural resource damage claims with BP in a Consent Decree ¹ approved by the United States District Court for the Eastern District of Louisiana. In accordance with that Consent Decree, restoration projects in the Mississippi Restoration Area are now chosen and managed by the MS TIG.

¹ https://www.justice.gov/enrd/file/838066/download.

The MS TIG is composed of the following Trustees:

• Mississippi Department of Environmental Quality;

• U.S. Department of the Interior (DOI), as represented by the National Park Service (NPS), U.S. Fish and Wildlife Service (FWS), and Bureau of Land Management (BLM);

• National Oceanic and Atmospheric Administration (NOAA), on behalf of the U.S. Department of Commerce (DOC);

• U.S. Department of Agriculture (USDA); and

• U.S. Environmental Protection Agency (EPA).

The restoration planning activity is proceeding in accordance with the Deepwater Horizon Oil Spill: Final Programmatic Damage Assessment and Restoration Plan (PDARP) and Final Programmatic Environmental Impact Statement (PEIS). Information on the restoration types being considered in the Draft RP II EA, as well as a general overview of the OPA criteria against which project ideas are being evaluated, can be found in the Final PDARP/PEIS (http://www.gulfspillrestoration.noaa.gov/restoration-planning/gulf-plan) and in the Overview section of the PDARP PEIS (http://www.gulfspillrestoration.noaa.gov/restoration-planning/gulf-plan).

MS TIG posted a Notice of Solicitation calling for project ideas on June 11, 2018 ² (June 11, 2018, Notice). Project ideas requested included the following restoration types: Wetlands, Coastal, and Nearshore Habitats (WCNH); Nutrient Reduction; Oysters; Sea Turtles; and Marine Mammals. MS TIG notified the public that it would consider new, revised, and previously submitted project ideas received by August 10, 2018. On October 10, 2018, MS TIG published a notice of Initiation of Restoration Planning in Mississippi.³ During the planning process MS TIG decided to focus only on WCNH and Oyster Restoration Types in RP II.

² https://www.gulfspillrestoration.noaa.gov/2018/06/mississippi-trustee-implementation-group-welcomes-publics-project-ideas.

³ https://www.gulfspillrestoration.noaa.gov/2018/10/notice-initiation-restoration-planning-mississippi.

In developing the Draft RP II EA, MS TIG considered projects previously submitted to the MDEQ Restoration Project Idea portal ⁴ and the Trustee Council Project Submission Portal,⁵ as well as those proposed in response to the June 11, 2018, Notice.

⁴ https://www.mdeq.ms.gov/restoration/project-portal/.

⁵ http://www.gulfspillrestoration.noaa.gov/restoration/give-us-your-ideas/suggest-a-restoration-project/.

In total, MS TIG evaluated seven alternatives and a No Action Alternative for WCNH and for Oysters. The proposed action of the Draft RP II EA is the selection of four alternatives (projects) for implementation:

(1) Wolf River Coastal Preserve Habitat Management—Dupont and Bell's Ferry Tracts—WCNH;

(2) Hancock County Coastal Preserve Habitat Management—Wachovia Tract—WCNH;

(3) Oyster Spawning Reefs in Mississippi—Oysters; and

(4) Mississippi Oyster Gardening Program—Oysters.

The proposed action is consistent with the restoration alternatives selected in the Final PDARP PEIS and would be funded by $4,887,500 from the WCNH Restoration Type and $10,500,000 from the Oysters Restoration Type.

Overview of the Draft RP II EA

The Draft RP II EA is being released in accordance with the OPA NRDA regulations in 15 CFR part 990, NEPA (42 U.S.C. 4321-4347), and 40 CFR 1500.

For the Draft RP II EA, MS TIG proposes moving forward with the four preferred alternatives:

• Wolf River Coastal Preserve Habitat Management—Dupont and Bell's Ferry Tracts (WCNH);

• Hancock County Coastal Preserve Habitat Management—Wachovia Tract (WCNH);

• Oyster Spawning Reefs in Mississippi (Oysters), and

• Mississippi Oyster Gardening Program (Oysters).

The total cost of the four preferred alternatives is approximately $15 million.

The MS TIG has examined and assessed the extent of injury and the restoration alternatives. In the Draft RP II EA, MS TIG presents to the public its draft plan for providing partial compensation to the public for injured natural resources and ecological services in the Mississippi Restoration Area. The proposed alternatives are intended to continue the process of restoring natural resources and ecological services injured or lost as a result of the Deepwater Horizon oil spill. Additional restoration planning for the Mississippi Restoration Area will continue.

Matthew Lohr,
Chief, Natural Resources Conservation Service.

[FR Doc. 2020-08419 Filed 4-21-20; 8:45 am]

BILLING CODE 3410-16-P